NUCLEAR REGULATORY COMMISSION

[Docket No. 50-289; NRC-2019-0198]

Exelon Generation Company LLC; Three Mile Island Nuclear Station Unit 1

AGENCY: Nuclear Regulatory Commission.

ACTION: Environmental assessment and finding of no significant impact; issuance.

SUMMARY: The U.S. Nuclear Regulatory Commission (NRC) is considering issuance of exemptions in response to an April 12, 2019, request from Exelon Generation Company, LLC (Exelon or the licensee), for Three Mile Island Nuclear Station, Unit 1 (TMI-1), located in Londonderry Township of Dauphin County, PA. One exemption would permit the licensee to use funds from the TMI-1 decommissioning trust fund (DTF or the Trust) for spent fuel management activities. Another exemption would allow the licensee to use withdrawals from the Trust for these activities without prior NRC notification. The NRC staff is issuing a final environmental assessment (EA) and final finding of no significant (FONSI) impact associated with the proposed exemptions.

DATES: The EA and FONSI referenced in this document are available on October 16, 2019.

ADDRESSES: Please refer to Docket ID NRC-2019-0198 when contacting the NRC about the availability of information regarding this document. You may obtain publicly-available information related to this document using any of the following methods:

• Federal Rulemaking Website: Go to https://www.regulations.gov/ and search for Docket ID NRC-2019-0198. Address questions about NRC docket IDs in Regulations.gov to Anne Frost; telephone: 301-287-9232; email: Anne.Frost@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the AVAILABILITY OF DOCUMENTS section.

• NRC's PDR: You may examine and purchase copies of public documents at the NRC's PDR, Room O1-F21, One White Flint North, 11555 Rockville Pike, Rockville, Maryland 20852.

FOR FURTHER INFORMATION CONTACT: Justin C. Poole, Office of Nuclear Reactor Regulation, U.S. Nuclear Regulatory Commission, Washington, DC 20555-0001; telephone: 301-415-2048; email: Justin.Poole@nrc.gov.

SUPPLEMENTARY INFORMATION:

I. Introduction

Pursuant to section 50.12 of title 10 of the Code of Federal Regulations (10 CFR), “Specific exemptions,” the NRC is considering issuance of exemptions from 10 CFR 50.82(a)(8)(i)(A) and 10 CFR 50.75(h)(1)(iv) for Renewed Facility Operating License No. DPR-50, issued to Exelon for TMI-1, located in Dauphin County, Pennsylvania. The proposed action is in response to the licensee's application for exemption dated April 12, 2019. The exemptions would allow the licensee to use funds from the Trust for spent fuel management activities without prior notice to the NRC, in the same manner that funds from the Trust are used under 10 CFR 50.82(a)(8) for decommissioning activities.

In accordance with 10 CFR 51.21, the NRC has prepared an EA that analyzes the environmental effects of the proposed action. Based on the results of this EA, and in accordance with 10 CFR 51.31(a), the NRC has determined not to prepare an environmental impact statement (EIS) for the proposed licensing action, and is issuing a FONSI.

II. Environmental Assessment

Description of the Proposed Action

The proposed action would partially exempt Exelon from the requirements set forth in 10 CFR 50.82(a)(8)(i)(A) and 10 CFR 50.75(h)(1)(iv). Specifically, the proposed action would allow Exelon to use funds from the Trust for spent fuel management activities not associated with radiological decontamination and would exempt Exelon from meeting the requirement for prior notification to the NRC for these activities.

Need for the Proposed Action

By letter dated June 20, 2017, Exelon informed the NRC that it plans to permanently ceased power operations at TMI-1 on or about September 30, 2019.

As required by 10 CFR 50.82(a)(8)(i)(A), decommissioning trust funds may be used by the licensee if the withdrawals are for legitimate decommissioning activity expenses, consistent with the definition of decommissioning in 10 CFR 50.2. This definition addresses radiological decontamination and does not include activities associated with spent fuel management. Similarly, the requirements of 10 CFR 50.75(h)(1)(iv) restrict the use of decommissioning trust fund disbursements (other than for ordinary and incidental expenses) to decommissioning expenses until final decommissioning has been completed. Therefore, partial exemptions from 10 CFR 50.82(a)(8)(i)(A) and 10 CFR 50.75(h)(1)(iv) are needed to allow Exelon to use funds from the Trust for spent fuel management activities.

Exelon stated that Table 2 of the request for exemption dated April 12, 2019, demonstrates that the amount of money in the TMI-1 Trust as of December 31, 2018, exceeds the amount of funds required to complete radiological decommissioning of the site. The sufficiency of funds in the Trust to cover the costs of activities associated with spent fuel management and radiological decontamination through license termination is supported by the TMI-1 Post-Shutdown Decommissioning Activities Report submitted by Exelon in a letter dated April 5, 2019. The licensee stated that it needs access to the funds in the Trust in excess of those needed for radiological decontamination to support spent fuel management activities not associated with radiological decontamination.

The requirements of 10 CFR 50.75(h)(1)(iv) further provide that, except for decommissioning withdrawals being made under 10 CFR 50.82(a)(8) or for payments of ordinary administrative costs and other incidental expenses of the Trust, no disbursement may be made from the Trust until written notice of the intention to make a disbursement has been given to the NRC at least 30 working days in advance of the intended disbursement. Therefore, an exemption from 10 CFR 50.75(h)(1)(iv) is needed to allow Exelon to use funds from the Trust for spent fuel management activities without prior NRC notification.

In summary, by letter dated April 12, 2019, Exelon requested exemptions from NRC regulations to allow Trust withdrawals, without prior written notification to the NRC, for spent fuel management activities.

Environmental Impacts of the Proposed Action

The proposed action involves regulatory requirements that are of a financial or administrative nature and that do not have an impact on the environment. The NRC has completed its evaluation of the proposed actions and concludes that there is reasonable assurance that adequate funds are available in the Trust to complete all activities associated with radiological decommissioning. There would be no decrease in safety associated with the use of the Trust to fund to pay for activities associated with spent fuel management. The NRC regulations in 10 CFR 50.82(a)(8)(v) require licensees to submit a financial assurance status report annually between the time of submitting its site-specific decommissioning cost estimate and submitting its final radiation survey and demonstrating that residual radioactivity has been reduced to a level that permits termination of the operating license. Section 50.82(a)(8)(vi) of 10 CFR requires that if the remaining balance, plus expected rate of return, plus any other financial surety mechanism, does not cover the estimated costs to complete the decommissioning, additional financial assurance must be provided to cover the cost of completion. These annual reports provide a means for the NRC to monitor the adequacy of available funding. Since the exemptions would allow Exelon to use funds in excess of those required for radiological decontamination of the site and the adequacy of Trust funds dedicated for radiological decontamination are not affected by the proposed exemptions, there is reasonable assurance that there will be no environmental effect due to lack of adequate funding for decommissioning.

The proposed action will not significantly increase the probability or consequences of radiological accidents or change the types of effluents released offsite. In addition, there would be no significant increase in the amount of any radiological effluent released offsite and no significant increase in occupational or public radiation exposure. There would be no materials or chemicals introduced into the plant affecting the characteristics or types of effluents released offsite. In addition, waste processing systems would not be affected by the proposed exemptions. Therefore, there would be no significant radiological environmental impacts associated with the proposed action.

Regarding potential nonradiological impacts, the proposed action would have no direct impacts on land use or water resources, including terrestrial and aquatic biota, as it involves no new construction or modification of plant operational systems. There would be no changes to the quality or quantity of nonradiological effluents and no changes to the plant's National Pollutant Discharge Elimination System permits would be needed. In addition, there would be no noticeable effect on socioeconomic and environmental justice conditions in the region, air quality impacts, and no potential to affect historic properties. Therefore, there would be no significant nonradiological environment impacts associated with the proposed action.

Accordingly, the NRC concludes that there would be no significant environmental impacts associated with the proposed action.

Environmental Impacts of the Alternatives to the Proposed Action

As an alternative to the proposed action, the NRC considered the denial of the proposed action (i.e., the “no-action” alternative). Denial of the exemption request would result in no change in current environmental impacts. The environmental impacts of the proposed action and the alternative action would be similar.

Alternative Use of Resources

There are no unresolved conflicts concerning alternative uses of available resources under the proposed action.

Agencies or Persons Consulted

No additional agencies or persons were consulted regarding the environmental impact of the proposed action. On October 3, 2019, the NRC notified the Commonwealth of Pennsylvania representative of the EA and FONSI.

III. Finding of No Significant Impact

The licensee has requested exemptions from 10 CFR 50.82(a)(8)(i)(A) and 10 CFR 50.75(h)(1)(iv), which would allow Exelon to use funds from the Trust for spent fuel management activities, without prior written notification to the NRC.

The NRC is considering issuing the requested exemptions. The proposed action would not significantly affect plant safety, would not have a significant adverse effect on the probability of an accident occurring, and would not have any significant radiological or nonradiological impacts. The reason the human environment would not be significantly affected is that the proposed action involves exemptions from requirements that are of a financial or administrative nature and that do not have an impact of the human environment.

Consistent with 10 CFR 51.21, the NRC conducted the EA for the proposed action, and this FONSI incorporates by reference the EA included in Section II of this notice. Therefore, the NRC concludes that the proposed action will not have a significant effect on the quality of the human environment. Accordingly, the NRC has determined there is no need to prepare an EIS for the proposed action.

As required by 10 CFR 51.32(a)(5), the related environmental document is the “Generic Environmental Impact Statement for License Renewal of Nuclear Plants: Regarding Three Mile Island Nuclear Station, Unit 1, Final Report,” (NUREG-1437, Supplement 37), which provides the latest environmental review of current operations and description of environmental conditions at TMI-1.

The finding and other related environmental documents may be examined, and/or copied for a fee, at the NRC's Public Document Room (PDR), located at One White Flint North, 11555 Rockville Pike, Rockville, Maryland 20852. Publicly-available records are accessible electronically from ADAMS Public Electronic Reading Room on the internet at the NRC's website: https://www.nrc.gov/reading-rm/adams.html. Persons who do not have access to ADAMS or who encounter problems in accessing the documents located in ADAMS should contact the NRC's PDR Reference staff by telephone at 1-800-397-4209 or 301-415-4737, or by email to pdr.resource@nrc.gov.

IV. Availability of Documents

The documents identified in the following table are available to interested persons through one or more of the following methods, as indicated.

Date | Title | ADAMS Accession No.
4/12/2019 | Letter from Exelon to NRC titled “Request for Exemption from 10 CFR 50.82(a)(8)(i)(A) and 10 CFR 50.75(h)(1)(iv) | ML19102A085
4/5/2019 | Letter from Exelon to NRC titled “Three Mile Island Nuclear Station, Unit 1—Post Shutdown Decommissioning Activities Report” | ML19095A041
6/20/2017 | Letter from Exelon to NRC titled “Certification of Permanent Cessation of Power Operations for Three Mile Island Nuclear Station, Unit 1” | ML17171A151
6/2009 | NUREG-1437, Supplement 37, “Generic Environmental Impact Statement for License Renewal of Nuclear Plants: Regarding Three Mile Island Nuclear Station, Unit 1” | ML091751063
12/1972 | NUREG-0552, “Final Environmental Statement Related to Operation of Three Mile Island Nuclear Station, Units 1 and 2” | ML19220C370

Dated at Rockville, Maryland, this 9th day of October 2019.
For the Nuclear Regulatory Commission.
Justin C. Poole,
Project Manager, Plant Licensing Branch I, Division of Operating Reactor Licensing, Office of Nuclear Reactor Regulation.

[FR Doc. 2019-22477 Filed 10-15-19; 8:45 am]

BILLING CODE 7590-01-P